DEPARTMENT OF THE INTERIOR

National Park Service

[NPS-WASO-NAGPRA-17401; PPWOCRADN0-PCU00RP14.R50000]

Notice of Intent To Repatriate Cultural Items: California State University, Sacramento, Sacramento, CA

AGENCY: National Park Service, Interior.

ACTION: Notice.

SUMMARY: California State University, Sacramento, in consultation with the appropriate Indian tribes or Native Hawaiian organizations, has determined that the cultural items listed in this notice meet the definition of unassociated funerary objects. Lineal descendants or representatives of any Indian tribe or Native Hawaiian organization not identified in this notice that wish to claim these cultural items should submit a written request to California State University, Sacramento. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to California State University, Sacramento at the address in this notice by March 6, 2015.

ADDRESSES: Orn Bodvarsson, Dean of the College of Social Sciences and Interdisciplinary Studies, CSUS, 6000 J Street, Sacramento, CA 95819-6109, telephone (916) 278-4864, email obbodvarsson@csus.edu.

SUPPLEMENTARY INFORMATION: Notice is here given in accordance with the Native American Graves Protection and Repatriation Act (NAGPRA), 25 U.S.C. 3005, of the intent to repatriate cultural items under the control of California State University, Sacramento, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

Sometime during the 1920s and 1930s, six unassociated funerary objects were removed from CA-SAC-026 (also known as Cory Mound/Joe Mound), located adjacent to the northern bank of the American River, approximately one half mile east of the Sacramento River, in west-central Sacramento County, CA. The unassociated funerary objects were in the possession of Anthony Zallio, a private collector, who posthumously donated his collection in 1951 to the Department of Anthropology at Sacramento State College, CA (now California State University, Sacramento). The six unassociated funerary objects are one lot of charcoal, one modified bone, three Haliotis shell ornaments, and one shell bead.

CA-SAC-026 is the location of Pujune, a Nisenan village that is well documented in the historic record due to its proximity to New Helvetia (Sutter's Fort), which resulted in high levels of interaction with pioneer John Sutter. It is known to have been an extensive and influential village when Sutter arrived in the area in the 1840s.

Sometime during the 1920s and 1930s, seven unassociated funerary objects were removed from CA-SAC-029 (also known as Sama, King Brown, Roeder, and S-29), which is located approximately one half mile east of the Sacramento River and five miles south of the confluence of the American and Sacramento Rivers, in west-central Sacramento County, CA. The unassociated funerary objects were in the possession of Anthony Zallio, a private collector, who posthumously donated his collection in 1951 to the Department of Anthropology at Sacramento State College, CA (now California State University, Sacramento). The seven unassociated funerary objects are one modified antler, one chert biface, one bone awl tip, three modified bone tools, and one lot of charred cordage. CA-SAC-029 was occupied as early as the Middle Horizon with reoccupation occurring sometime during the Late Sutter period. The site is believed to be a Nisenan village known as Sama.

Sometime during the 1920s and 1930s, one unassociated funerary object was removed from “Rose Spring Mound,” located in Roseville in Placer County, CA. The exact location is currently unknown. The unassociated funerary object was in the possession of Anthony Zallio, a private collector, who posthumously donated his collection in 1951 to the Department of Anthropology at Sacramento State College, CA (now California State University, Sacramento). The unassociated funerary object is one projectile point. Although the exact site location for Rose Spring Mound in Placer County, CA, is unknown, the site is within the aboriginal territory of the Nisenan.

Archeological evidence indicates that the lower Sacramento Valley and Delta regions were continuously occupied since at least the Early Horizon (5550-550 B.C.). Cultural changes indicated by artifact typologies and burial patterns, historical linguistic evidence, and biological evidence reveal that the populations in the region were not static, with both in situ cultural changes and migrations of outside populations into the area. Linguistic evidence suggests that ancestral-Penutian speaking groups related to modern day Miwok, Nisenan, and Patwin groups occupied the region during the Middle (550 B.C.-A.D. 1100) and Late (A.D. 1100-Historic) Horizons, with some admixing between these groups and Hokan-speaking groups that occupied the region at an earlier date. The genetic data suggests that the Penutians may have arrived later than what is suggested by the linguistics.

Geographical data from ethnohistoric and ethnographic sources indicate that the site was most likely occupied by Nisenan-speaking groups at the beginning of the historic period, while Patwin-speakers occupied the valley west of the Sacramento River and Miwok-speakers resided south of the American River. Ethnographic data and expert testimony from Tribes support the high level of interaction between groups in the lower Sacramento Valley and Delta regions that crosscut linguistic boundaries. Historic population movements resulted in an increased level of shifting among populations, especially among populations who were impacted by disease, violence, and Euro-American activities relating to Sutter's Fort and later gold-rush activities.

In summary, the ethnographic, historical, and geographical evidence indicate that the funerary objects listed above are most closely affiliated with contemporary descendants of the Nisenan with more distant ties to neighboring groups, such as Miwok, Patwin, and Yokut. The earlier cultural items from the Middle and Late Horizons share cultural relations with the Plains Miwok, Nisenan, and Yokut based on archeological, biological, and historical linguistic evidence.

Determinations Made by California State University, Sacramento

Officials of the California State University, Sacramento have determined that:

• Pursuant to 25 U.S.C. 3001(3)(B), the 14 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary object and Shingle Springs Band of Miwok Indians, Shingle Springs Rancheria (Verona Tract), California; and United Auburn Indian Community of the Auburn Rancheria of California.

Additional Requestors and Disposition

Lineal descendants or representatives of any Indian tribe or Native Hawaiian organization not identified in this notice that wish to claim these cultural items should submit a written request with information in support of the claim to Orn Bodvarsson, Dean of the College of Social Sciences and Interdisciplinary Studies, CSUS, 6000 J Street, Sacramento, CA 95819-6109, telephone (916) 278-4864, email obbodvarsson@csus.edu, by March 6, 2015. After that date, if no additional claimants have come forward, transfer of control of the unassociated funerary objects to the Shingle Springs Band of Miwok Indians, Shingle Springs Rancheria (Verona Tract), California and United Auburn Indian Community of the Auburn Rancheria of California may proceed.

California State University, Sacramento is responsible for notifying the Shingle Springs Band of Miwok Indians, Shingle Springs Rancheria (Verona Tract), California, and United Auburn Indian Community of the Auburn Rancheria of California that this notice has been published.

Dated: December 29, 2014.
Melanie O'Brien,
Acting Manager, National NAGPRA Program.

[FR Doc. 2015-02180 Filed 2-3-15; 8:45 am]

BILLING CODE 4312-50-P